DEPARTMENT OF THE TREASURY

Internal Revenue Service

Proposed Collection; Comment Request for Prepaid Card Marketing Customer Survey, CS-10-251.

AGENCY: Internal Revenue Service (IRS), Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the IRS is soliciting comments concerning Prepaid Card Marketing Customer Survey, CS-10-251

DATES: Written comments should be received on or before May 23, 2011 to be assured of consideration.

ADDRESSES: Direct all written comments to Yvette B. Lawrence, Internal Revenue Service, room 6129, 1111 Constitution Avenue, NW., Washington, DC 20224.

FOR FURTHER INFORMATION CONTACT: Requests for additional information or copies of the form and instructions should be directed to Ralph Terry at (202) 622-8144, at Internal Revenue Service, room 6129, 1111 Constitution Avenue, NW., Washington, DC 20224, or through the Internet at Ralph.M.Terry@irs.gov.

SUPPLEMENTARY INFORMATION: Title: Prepaid Card Marketing Customer Survey, CS-10-251.

OMB Number: 1545-2204.

Abstract In Fiscal Year (FY) 2009, the IRS initiated a formal effort to collaborate with financial institutions (banks) and Volunteer Income Tax Assistance (VITA) sites to encourage taxpayers who do not request direct-deposited refunds to opt for a prepaid card sponsored by the financial institutions. These taxpayers are likely to be unbanked and without means of freely cashing their refund check. The perceived benefits of the prepaid card program are (1) faster transfer of refunds to the taxpayer compared to the paper check mode, and (2) low-cost transactions to use the refund amount. To help improve participation, IRS is hoping to leverage the theory and principles of social marketing. Social marketing principles and practices apply marketing principles to social programs. This data will provide the IRS with practical information to be used to determine the value of offering the prepaid card to taxpayers in the future.

Type of Review: Extension of a currently approved collection.

Affected Public: Individual and households.

Estimated Number of Respondents: 5734.

Estimated Total Annual Burden Hours: 542 hours.

The following paragraph applies to all of the collections of information covered by this notice:

An agency may not conduct or sponsor, and a person is not required to respond to, a collection of information unless the collection of information displays a valid OMB control number.

Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: March 15, 2011.
Yvette B. Lawrence,
IRS Reports Clearance Officer.

[FR Doc. 2011-6602 Filed 3-21-11; 8:45 am]

BILLING CODE 4830-01-P